Title 3—

The President

Proclamation 10186 of April 22, 2021

Earth Day, 2021

By the President of the United States of America

A Proclamation

On April 22, 1970, millions of Americans rallied together to protect the right of all of us to live free from environmental hazard and harm. On that first Earth Day, they gathered all across America—on college campuses, in public parks, and State capitals—galvanized by a vision of a healthier, more prosperous Nation where all people could thrive. Their untiring spirit sparked a national movement for environmental protection that endures today in the bedrock laws that protect the air we breathe, the water we drink, and treasured wild places and wildlife.

Earth Day was primarily conceived and brought to life by a dedicated public servant: the late Senator Gaylord Nelson of Wisconsin. Senator Nelson and his wife, Carrie Lee—who herself passed away just last month—were both dear friends who changed my life; it was Senator Nelson who helped persuade me to remain in the Senate after losing my first wife and daughter in a car accident in 1972. Senator Nelson changed the world, too, by building a legacy of environmental protection through Earth Day and all of the progress that has come in its wake—not because it was popular, but because it was the right thing to do for our children and grandchildren.

Over half a century later, that legacy lives on in the chorus of courageous young people across the world who are rising up to demand action on climate change. They recognize the enormous economic opportunity to build a brighter, more prosperous future, and the dire economic, societal, and national security consequences of failing to act. Our youth remind us that a better world is within our grasp. Today, I say to young people fighting for a brighter future: We hear you. We see you. We will not let you down.

In recent years, climate change has upended the lives of millions of Americans. Record cold weather knocked out the electric grid in Texas this winter, killing at least 111 people and disrupting the lives and livelihoods of millions more. Wildfires tore through more than 5 million acres across the American West—an area roughly the size of the entire State of New Jersey burned to the ground. Last year, back-to-back hurricanes and powerful tropical storms battered the Gulf and East Coasts in the worst Atlantic hurricane season in recorded history. Record floods, hurricane-speed windstorms, and severe droughts devastated families and communities across the Midwest. People have lost homes and irreplaceable memories of their loved ones, small businesses built from years of tireless labor and sacrifice, farmland meant to be passed on to the next generation, and so much more.

At the same time, Black, Latino, Indigenous, and other communities of color continue to be hit hardest by the impacts of climate change. They bear the highest burden of pollution, face higher rates of heart and lung disease, are least likely to have safe drinking water in their homes, and suffer increased risk of death from COVID-19. These communities have also frequently been shut out of government decisions that directly bear on their interests. We have an obligation to correct these historic wrongs and to build a future where all people have clean air to breathe, clean water to drink, healthy communities in which they can live, work, and learn, and a meaningful voice in their future.

That is why my Administration is advancing the most ambitious climate agenda in our Nation's history. Our clean energy plan will create millions of good-paying union jobs, ensure our economic competitiveness, and improve the health and security of communities across America. By making those investments and putting millions of Americans to work, the United States will be able to cut our greenhouse gas emissions in half by 2030.

Our success in confronting the climate crisis will not be ours alone. It will be shaped, bolstered, and ultimately won by a united pledge from global leaders to set the world on a path to a clean energy future. Today, on the fifth anniversary of the United States ratifying the Paris Agreement, we have brought nations from across the world together to meet the moment and raise our climate ambitions.

More than 50 years ago, a generation rallied to confront the environmental crises they faced. They took action in hopes that those in power would listen. Today, a new generation is sounding the alarm louder than ever, demanding that world leaders act. It is in all our interests to rise to that challenge and let our legacy be one of action.

NOW, THEREFORE, I, JOSEPH R. BIDEN JR., President of the United States of America, by virtue of the authority vested in me by the Constitution and the laws of the United States, do hereby proclaim April 22, 2021, as Earth Day. I encourage all Americans to engage in programs and activities that will promote an understanding of environmental protection, the urgency of climate change, and the need to create a healthier, safer, more equitable future for all people.

IN WITNESS WHEREOF, I have hereunto set my hand this twenty-second day of April, in the year of our Lord two thousand twenty-one, and of the Independence of the United States of America the two hundred and forty-fifth.

[FR Doc. 2021-08835

Filed 4-26-21; 8:45 am]

Billing code 3295-F1-P